DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than September 15, 2014.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION: Information Collection Request Title: Federal Tort Claims Act (FTCA) Free Clinic Application OMB No. 0915-0293—Revision.

Abstract: Under 42 U.S.C. 233(o) and Program Assistance Letter (PAL) 2014-04, “Calendar Year 2015 Federal Tort Claims Act (FTCA) Deeming Application for Free Clinics,” free clinics are required to submit annual applications for deeming of qualified health care professionals, board members, officers, and contractors for purposes of FTCA medical malpractice coverage for negligent acts and omissions that arise from the performance of medical, surgical, dental, or related functions within the scope of the covered individual's deemed employment. HRSA proposes modifying the application forms to reflect changes to eligible personnel made by section 10608 of the Affordable Care Act, which extended FTCA medical malpractice liability protection to free clinic board members, officers, employees, and contractors. Additionally, HRSA proposes upgrading the application to provide for electronic submissions. Specifically, the modifications include: (1) Inclusion of board members, officers, employees, and contractors into one comprehensive application that also includes volunteer health care professionals and (2) a fully electronic application that can be submitted via HRSA's web-based application system, the Electronic Handbooks (EHBs). It is anticipated that these modifications will decrease the time and effort required to complete the current OMB approved FTCA application forms.

Need and Proposed Use of the Information: Deemed status for FTCA medical malpractice coverage requires HRSA approval of an application for deeming of certain eligible individuals from a sponsoring free clinic. The FTCA Free Clinic deeming application is an electronic application submitted to HRSA through the EHBs as part of the process of deeming qualified health care professionals, board members, officers, and individual contractors. Sponsoring clinics are required to submit a completed electronic application in addition to other required documents as required by section 224(o) of the Public Health Service Act (42 U.S.C. 233(o)). Applications are reviewed by program staff before a deeming determination is made.

Likely Respondents: Respondents include nonprofit private entities that meet the statutory and programmatic requirements as stated in section 224(o) of the Public Health Service Act (42 U.S.C. 233(o)) and implementing HRSA policy guidance.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
FTCA Free Clinics Program Application | 227 | 1 | 227 | 2 | 681
Total | 227 | 1 | 227 | 2 | 681

Dated: August 8, 2014.
Jackie Painter,
Acting Director, Division of Policy and Information Coordination.

[FR Doc. 2014-19219 Filed 8-13-14; 8:45 am]

BILLING CODE 4165-15-P